DEPARTMENT OF COMMERCE

International Trade Administration

(A-122-840)

Carbon and Certain Alloy Steel Wire Rod from Canada: Extension of Time Limit for Preliminary Results of the Antidumping Duty Administrative Review

AGENCY: Import Administration, International Trade Administration, Department of Commerce.

EFFECTIVE DATE: May 25, 2006.

FOR FURTHER INFORMATION CONTACT: Damian Felton or Brandon Farlander, AD/CVD Operations, Office 1, Import Administration, International Trade Administration, U.S. Department of Commerce, 14th Street and Constitution Avenue, NW, Washington, DC 20230; telephone: (202) 482-0133 or (202) 482-0182, respectively.

SUPPLEMENTARY INFORMATION:

Background

On October 3, 2005, the Department of Commerce (“the Department”) published an opportunity to request an administrative review of the antidumping duty order on carbon and certain alloy steel wire rod from Canada for the period October 1, 2004, to September 30, 2005. See Antidumping or Countervailing Duty Order, Filing, or Suspended Investigation; Opportunity to Request an Administrative Review, 70 FR 57558 (October 3, 2005). On October 31, 2005, respondent Ivaco Rolling Mills L.P. (now known as Ivaco Rolling Mills 2004 L.P.) (“IRM”), a producer and exporter of subject merchandise, and respondent Sivaco Ontario Processing (aka Sivaco Ontario, a division of Sivaco Wire Group 2004 L.P.), a processor and exporter of the subject merchandise, requested a review. No other interested parties requested a review. On December 1, 2005, the Department published its notice of initiation of an antidumping administrative review on carbon and certain alloy steel wire rod from Canada. See Initiation of Antidumping and Countervailing Duty Administrative Reviews and Deferral of Administrative Reviews, 70 FR 72107 (December 1, 2005). The preliminary results of this administrative review are currently due July 3, 2006.

Extension of Time Limit for Preliminary Results

Pursuant to section 751(a)(3)(A) of the Tariff Act of 1930, as amended (“the Act”), the Department shall issue preliminary results in an administrative review of an antidumping duty order within 245 days after the last day of the anniversary month of the date of publication of the order for which a review is requested and the final results within 120 days after the date on which the preliminary results are published. However, if it is not practicable to complete the review within the specified time periods, section 751(a)(3)(A) of the Act allows the Department to extend these deadlines to a maximum of 365 days and 180 days, respectively.

Completion of the preliminary results within the originally anticipated time limit, July 3, 2006, is impracticable because this review requires the Department to analyze complex issues regarding IRM's and Sivaco Ontario's corporate structures and their affiliations and corporate relationships. Because it is not practicable to complete the review within the time specified under the Act, in accordance with section 751(a)(3)(A) of the Act, the Department is extending the time limit for completion of the preliminary results by 30 days to August 2, 2006. The deadline for the final results of this administrative review continues to be 120 days after the publication of the preliminary results.

We are issuing and publishing this notice in accordance with sections 751(a)(1) and 777(i)(1) of the Act.

Dated: May 19, 2006.
Stephen J. Claeys,
Deputy Assistant Secretary for Import Administration.

[FR Doc. E6-8070 Filed 5-24-06; 8:45 am]

BILLING CODE 3510-DS-S